OFFICE OF MANAGEMENT AND BUDGET

Senior Executive Service Performance Review Board Membership

AGENCY: Office of Management and Budget.

ACTION: Notice.

SUMMARY: The Office of Management and Budget (OMB) publishes the names of the members selected to serve on its Senior Executive Service (SES) Performance Review Board (PRB). This notice supersedes all previous notices of the PRB membership.

DATES: Applicable: July 1, 2019.

FOR FURTHER INFORMATION CONTACT: Sarah Whittle Spooner, Assistant Director for Management and Operations, Office of Management and Budget, 725 17th Street NW, Washington, DC 20503, 202-395-7402.

SUPPLEMENTARY INFORMATION: Section 4314(c) of Title 5, U.S.C. requires each agency to establish, in accordance with regulations prescribed by the Office of Personnel Management, one or more PRBs. The PRB shall review and evaluate the initial appraisal of a senior executive's performance by the supervisor, along with any response by the senior executive, and make recommendations to the final rating authority relative to the performance of the senior executive.

The persons named below have been selected to serve on OMB's PRB.

Kelly T. Colyar, Chief, Water and Power Branch

Wesley M. Denton, Senior Advisor for Communications

Jennifer L. Hanson, Chief, Income Maintenance Branch

Kirsten J. Moncada, Chief, Privacy Branch

Robert J. Nassif, Chief, Force Structure and Investment Branch

Sarah Whittle Spooner, Assistant Director for Management and Operations

Sarah Whittle Spooner,
Assistant Director for Management and Operations.

[FR Doc. 2019-16567 Filed 8-2-19; 8:45 am]

BILLING CODE 3110-01-P